DEPARTMENT OF ENERGY

Federal Energy Regulatory Commission

[Project No. 2889-004]

San Bernardino Valley Municipal Water District; Notice of Effectiveness of Surrender

On April 17, 1981, the Commission issued a Notice of Approval by Operation of Law granting an exemption from licensing to the San Bernardino Valley Municipal Water District (exemptee) for the proposed Lytle Creek and Foothills Pipeline Project, FERC No. 2889. The unconstructed project would be located on Lytle Creek, in San Bernardino County, California.

On March 30, 2016, the exemptee filed a petition with the Commission to surrender the exemption. The exemptee has been unable to construct the project due to changes in water availability and pricing tariffs.

Accordingly, the Commission accepts the exemptee's surrender of its exemption from licensing, effective 30 days from the date of this notice, at the close of business on Friday, November 25, 2016. No license, exemption, or preliminary permit applications for the project site may be filed until Monday, November 28, 2016.

Dated: October 26, 2016.
Nathaniel J. Davis, Sr.,
Deputy Secretary.

[FR Doc. 2016-26589 Filed 11-4-16; 8:45 am]

BILLING CODE 6717-01-P